DEPARTMENT OF HEALTH AND HUMAN SERVICES

Substance Abuse and Mental Health Services Administration

Agency Information Collection Activities: Proposed Collection; Comment Request

In compliance with Section 3506(c)(2)(A) of the Paperwork Reduction Act of 1995 concerning opportunity for public comment on proposed collections of information, the Substance Abuse and Mental Health Services Administration (SAMHSA) will publish periodic summaries of proposed projects. To request more information on the proposed projects or to obtain a copy of the information collection plans, call the SAMHSA Reports Clearance Office on (240) 276-1243.

Comments are invited on: (a) Whether the proposed collections of information are necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology.

Proposed Project: Substance Abuse Prevention and Treatment (SAPT) Block Grant Uniform Application Guidance and Instructions FY 2008-2010 and Regulations (OMB No. 0930-0080)—Revision

This Federal Register Notice is revised to reflect that information collection approval requirements for the Substance Abuse Prevention and Treatment Block Grant regulation and Uniform Application Guidance were consolidated in August 2004 by a Notice of office of Management and Budget Action memo and terms of clearance. In accordance with that Notice of Action and through this amendment to the January 25, 2007 FRN, the Substance Abuse and Mental Health Services Administration communicates its intent to maintain these as a single item for OMB clearance purposes. Accordingly, a consolidated respondent burden table is included adding the respondent burden for recordkeeping historically associated specifically with the regulation.

Sections 1921 through 1935 of the Public Health Services Act (U.S.C. 300x-21 to 300x-35) provide for annual allotments to assist States to plan, carry out and evaluate activities to prevent and treat substance abuse and for related activities. Under the provisions of the law, States may receive allotments only after an application is submitted and approved by the Secretary, DHHS. For the Federal fiscal year 2008-2010 SAPT block Grant application cycles, the Substance Abuse and Mental Health Services Administration (SAMHSA) will provide States with revised application guidance and instructions to implement changes made in accordance with the recommendations of the Office of Management and Budget's Program Assessment Rating Tool (PART) analysis. In addition, SAMHSA has incorporated recommendations from the National Association of State Alcohol and Drug Abuse Directors and their member States in the revisions and clarification of data reporting requirements and instructions.

During negotiations with the States resulting in agreement on the National Outcome Measures for substance abuse treatment and prevention, SAMHSA pledged to the States to:

1. Reduce respondent burden;

2. Work with the States to improve performance management of the SAPT Block Grant;

3. Improve the availability, timeliness, and quality of data available to Federal, State, and provider administrators of block grant funded programs.

This revision of the Uniform Application and Regulation for the SAPT Block Grant takes initial steps toward implementing these commitments. Individual States may reduce their respondent burden by selecting the option of using SAMHSA pre-populated tables for Section IVa and b. The data for these tables would be drawn from SAMHSA data sets known as DASIS and NSDUH by SAMHSA and provided to the States. SAMHSA is providing the States with the option of reporting on prevention expenditures utilizing the six prevention strategies or utilizing the IOM classification of Universal, Selective or Indicated and is seeking comment regarding the most useful manner to convey and collect the primary prevention expenditure data. SAMHSA has designed the State Prevention Framework State Incentive Grant (SPF SIG) competitive program and funded contracts in States without a SPF SIG to support data driven prevention planning by Substance Abuse State Agencies. This application has been modified to encourage the States to use the State level data collected with support from these programs in the planning in section III of this SAPT Block grant application. The addition of on-going provider performance monitoring (page 90-7) and the narratives describing State Performance Management and Leadership (p. 93) begin the process of aligning the application with the performance management criteria embodied in the OMB PART program.

In the coming twelve months, SAMHSA will continue to work with the States to assess the feasibility and usefulness of pre-populating the following sections of the application with data extracted from SAMHSA data sets to further reduce respondent burden:

Form 6—Entity Inventory | NSSATS data set.
Form 7a & b—Treatment Utilization Matrix | DASIS/TEDS/SOMMS.
Form 8—Treatment Needs Assessment | NSDUH, State, and sub-State.
Forms T1-T7—Treatment Performance Measures | DASIS/SOMMS.
Form P1-P15—Prevention Performance Measures | NSDUH.

In addition, NSDUH estimates of persons (1) needed, (2) needing and seeking, and (3) needing, seeking and not receiving treatment will be examined for application to the planning requirements of PART requirements.

SAMHSA will also code all application content against PART requirements to insure that all requirements are appropriately addressed by applicants and Federal staff.

In December 2004, SAMHSA and the States agreed on the goal of having all States reporting the NOMs measures as defined at the meeting by the end of a 3-year implementation period starting in FFY 2005 and concluding at the end of FFY 2007. By January 2006, supportive technical assistance on information technology design and payment for data submitted became available by the SAMHSA State Outcomes Monitoring and Management System Programs. States who have participated in the State Outcomes Monitoring and Management System NOMs subcontract may choose to have their data pre-populated which would significantly reduce their reporting burden for this application. During the next twelve months SAMHSA in partnership with the States and all other SAPT Block Grant stakeholders, will develop standards for analyzing and responding to the results of NOMs data appropriate to each level of block grant fund administration including Federal, State, and Provider roles and responsibilities.

Revisions to the previously-approved application resulting from such stakeholder input reflect the following changes: (1) In Section I, Form 2, “Table of Contents,” was revised to appropriately enumerate the specific items within each section; (2) In Section II, the Narrative description of certain maintenance of effort and expenditure base calculations was simplified to require submission of such information only if it represented a revision from previous years' submissions. This section was also moved to its more appropriate place in the application immediately preceding reporting on maintenance of efforts; (3) In Section II, Form 4, “Substance Abuse State Agency Spending Report,” was amended to use consistent language for services expenditure reporting and planning across Form 4, 6, and 11. On Form 4 and Form 11, Row 1, the activity to be reported on is entitled: SAPT Block Grant funds for Substance Abuse Prevention (other than primary prevention) and Treatment Services to be consistent with the terminology used in Form 6, Column 5; (4) In Section II, Form 6, Entity Inventory, instructions were clarified to communicate that information on all substances abuse prevention and treatment service providers funded through the SSA was sought; (5) In section II, Form 7A, “Treatment Utilization Matrix” instructions were clarified to communicate that information on persons admitted and served within the specific reporting period wa sought to enable the SAPTBG Program to address the recommendations of the FY 2003 OMB Program Assessment Rating Tool (PART) analysis; (6) In Section II, Form 7B, “Number Of Persons Served (Unduplicated Count) For Alcohol And Other Drug Use In State Funded Services,” instructions were clarified in a similar manner as Form 7a and a separate data cell was added to accommodate States' desires to report on clients admitted in a prior reporting period but also continuing to be served with the current reporting period; (7) In Section II, Table I (Maintenance), “Single State Agency (SSA) Expenditures for Substances Abuse” was amended to reflect the appropriate State fiscal year and the corresponding instructions were amended; (8) In Section II, Table II (Maintenance), “Statewide Non-Federal Expenditures for Tuberculosis Services to Substance Abusers in Treatment,” was amended to reflect the appropriate State fiscal year and the corresponding instructions were amended; (9) In Section II, Table III (Maintenance), “Statewide Non-Federal Expenditures for HIV Early Intervention Services to Substance Abusers in Treatment,” was amended to allow States to enter the appropriate State fiscal year and the corresponding instruction were amended; (10) In Section II, Table IV (Maintenance), “SSA Expenditures for Women's Services,” was amended to reflect the appropriate fiscal year and the corresponding instructions were amended; (11) In Section III, Form 11, “Intended Use Plan,” was amended to use consistent language for services expenditure reporting and planning; (12) In Section IV, subparts IV-A and IV-B, “Voluntary Treatment Performance Measures” and “Voluntary Prevention Performance Measures” all references to the term Voluntary are deleted as reporting on these measures will no longer be voluntary; (13) In Section IV-A, “Treatment Performance Measures,” the general instructions were amended to implement mandatory reporting on performance measures forms T1-T7 and a narrative requirement is proposed to collect information on States internal practices to use performance measure data to manage their systems; (14) In Section IV-A, “Treatment Performance Measures” Forms T1-T7 data specifications replaced State detail sheet narrative requirements for forms T1-T7 to reduce the burden of reporting and improve the uniformity of data quality information being collected; (15) The Section IV-A, “Treatment Performance Measures,” T6 on infectious disease control efforts was deleted because it was determined to be duplicative of information requirements in Section II of the application; (16) In Section IV, subpart IV-B, “Prevention Performance Measures,” Forms P5 and P6 were removed, P1-P15 were substituted for the previous Form P1-P4 and the instructions were amended to address pre-population of prevention performance data.

The total annual reporting burden estimate is shown below:

| Number of respondents | Responses per respondent | Number hours per response | Total hours
Sections I-III—States and Territories | 60 | 1 | 470 | 28,200
Section IV-A | 60 | 1 | 40 | 2,400
Section IV-B | 60 | 1 | 42.75 | 2,565
Recordkeeping | 60 | 1 | 18 | 960
Total | 60 |  |  | 34,125

Send comments to Summer King, SAMHSA Reports Clearance Officer, Room 7-1044, One Choke Cherry Road, Rockville, MD 20857. Written comments should be received within 60 days of this notice.

Dated: March 19, 2007.
Elaine Parry,
Acting Director, Office of Program Services.

[FR Doc. 07-1445 Filed 3-22-07; 8:45 am]

BILLING CODE 4162-20-M